DEPARTMENT OF DEFENSE

Department of the Army, Corps of Engineers

Intent To Prepare a Draft Environmental Impact Statement (DEIS) for the Rio Salado Oeste Feasibility Study, Phoenix, AZ

AGENCY: U.S. Army Corps of Engineers, DoD.

ACTION: Notice of intent.

SUMMARY: The Los Angeles District of U.S. Army Corps of Engineers will prepare a DEIS to support the Rio Salado Oeste Feasibility Study, Phoenix, Arizona. The study area is the Salt River (Rio Salado in Spanish) between 19th Avenue and 83rd Avenue. This study will investigate feasible alternatives to restore the native riparian ecosystem, to increase passive recreation associated with the ecosystem restoration, and to improve flood control. The DEIS will analyze the potential impacts (beneficial and adverse) on the environment of a range of alternatives, including the recommended plan.

The Los Angeles District and the City of Phoenix will cooperate in conducting this feasibility study.

ADDRESSES: District Engineer, U.S. Army Corps of Engineers, Los Angeles District, ATTN: CESPL-PD-RQ (R. Farve), P.O. Box 532711, Los Angeles, California 90053-2325.

FOR FURTHER INFORMATION CONTACT: Mr. Rey Favre, Environmental Coordinator, telephone (213)-452-3864, or Ms. Kayla Eckert, Study Manager, telephone (602)-640-2003.

SUPPLEMENTARY INFORMATION: 1. Authorization. This feasibility study is conducted under the authority given in Section 6 of the Flood Control Act of 1938, dated June 28, 1938, and in accordance with House Resolution 2425 (HR 2425), dated May 17, 1994. HR 2425 states, in part: “* * * the Secretary of Army is requested to review reports of the Chief of Engineers on the State of Arizona * * * in the interest of flood damage reduction, environmental protection and restoration and related purposes.”

2. Background. The feasibility study area is located on the Salt River (Rio Salado in Spanish) in Phoenix, Arizona, between 19th Avenue and 83rd Avenue. The Rio Salado Oeste (Salt River—West) study area is just west of the authorized Rio Salado project and just east of the authorized Tres Rios Project. Like the Tres Rios and Rio Salado Projects, the primary purpose of the Rio Salado Oeste Study is environmental restoration. The non-federal sponsor of the feasibility study is the City of Phoenix.

3. Alternatives. The Los Angeles district will investigate and evaluate all reasonable alternatives to provide for the restoration of Sonoran riparian vegetation and associated native wildlife, to improve flood control along the river between 67th and 75th Avenues, and to increase passive recreation and educational opportunities inked to the restoration of the environment. Significant beneficial impacts to the environment are expected from the restoration native riparian habitats in the area.

4. Scoping Process. Participation of all interested Federal, State, and County agencies, groups with environmental interests, and any interested individuals are encouraged. Public involvement will be most beneficial and worthwhile in identifying the scope of pertinent, significant environmental issues to be addressed, identifying and eliminating from detailed study issues that are not significant, offering useful information such as published or unpublished data, providing direct personal experience or knowledge which informs decision making, and recommending suitable mitigation measures to offset potential impacts from the proposed action or alternatives.

A public scoping meeting has been tentatively scheduled for sometime in September 2001. When available, the specific date, time, and location of this meeting will be announced in a mailing to those on the mailing list developed for this project, and announced through local media channels. The purpose of the scoping meeting will be to gather information from the general public or interested organizations about issues and concerns that they would like to see addressed in the DEIS. Comments may be delivered in writing or verbally at the meeting or sent in writing to the Los Angeles District at the address given above. The scoping period will conclude 60 days after publication of this NOI.

5. Availability of the DEIS. The DEIS is expected to be available to the public for review and comment beginning in the summer of 2004.

Luz D. Ortiz,
Army Federal Register Liaison.

[FR Doc. 01-21697 Filed 8-27-01; 8:45 am]

BILLING CODE 3710-KF-M